DEPARTMENT OF COMMERCE

Technology Administration

Request for Comments on Electronics Recycling

AGENCY: Technology Administration, Department of Commerce.

ACTION: Notice, request for comments.

SUMMARY: The Technology Administration (TA) publishes this notice to solicit comments on the following specific issues regarding electronics recycling: (1) Definition of covered products; (2) collection and the role of government in collection; (3) financing collection, transportation and recycling, financing for orphan products, financing historical products versus future products, and the role of government, the electronics industry, and intermediaries in financing; and (4) the role of the federal government in creating a national recycling plan. This solicitation is intended to give those who were unable to comment at the September 21, 2004, roundtable on electronics recycling, entitled Technology Recycling: Achieving Consensus for Stakeholders, an opportunity to submit a statement regarding these issues.

DATES: Comments and statements should be received by the Technology Administration no later than October 27, 2004, in order to receive consideration.

ADDRESSES: Electronic statements are preferred, but written comments will be accepted. Please submit your comments electronically to technologyrecycling@doc.gov either in Microsoft Word (specify version) or WordPerfect (version 5 or 6, specify version).

Paper submissions should include an electronic copy of the comments on a diskette in one of the formats specified above. Mail to Laureen Daly, Office of Technology Policy, Technology Administration HCHB 4817, 1401 Constitution Avenue, NW, Washington, DC 20230.

FOR FURTHER INFORMATION CONTACT: Direct questions to technologyrecycling@doc.gov or call Laureen Daly at (202) 482-0336.

SUPPLEMENTARY INFORMATION:

Background

The Technology Administration, Office of Technology Policy held a roundtable on September 21, 2004, entitled Technology Recycling: Achieving Consensus for Stakeholders, that included representatives of electronics manufacturers, retailers, recyclers, and environmental organizations. At the roundtable, participants discussed that: (1) A list of products for recycling should be limited to a small number of items to start with, such as cathode ray tubes and flat panel monitors over a certain size, and have a timetable for expansion of the list; (2) a collection process may include but should not mandate participation from retailers, local governments, manufacturers and third parties; (3) there exists several different financing models including extended producer responsibility and an advanced recovery fee, as well as financing the recycling of orphan products and transportation from collection to recyclers; and (4) there exists a need for a national approach as opposed to a state-by-state approach. The purpose of the roundtable was to obtain information for a report on electronics recycling that will be released in 2005.

Request for Comments

The Office of Technology Policy of TA is soliciting comments on the following specific issues regarding electronics recycling: (1) Definition of covered products; (2) collection and the role of government in collection; (3) financing collection, transportation and recycling, financing for orphan products, financing historical products versus future products, and the role of government, the electronics industry, and intermediaries in financing; and (4) the role of the federal government in creating a national recycling plan. This solicitation is intended to give those who were unable to comment at the roundtable an opportunity to submit a statement regarding these issues. Statements may propose a specific scenario or model for electronics recycling; give examples of existing programs in similar or unrelated areas that could serve as a model for an electronics recycling program; or comment on the pros and cons of existing or proposed models. TA is interested in specific scenarios that would enhance the competitiveness of U.S. industry and encourage conservation of resources.

We request, but do not require, that commentors provide their name, affiliation, and contact information and whether the comments represent the views of an individual or an organization. The Department reserves the right to use comments received, either partially or wholly, in subsequent reports or publications. Any comments become the property of the U.S. Department of Commerce.

For further information on the roundtable and the report, check the http://www.technology.gov website under Events and Activities, September 21, 2004, Technology Recycling Roundtable.

Dated: October 13, 2004.
Phillip J. Bond,
Under Secretary of Commerce for Technology.

[FR Doc. 04-23499 Filed 10-20-04; 8:45 am]

BILLING CODE 3510-18-P